DEPARTMENT OF DEFENSE

Office of the Secretary

Reserve Forces Policy Board; Notice of Federal Advisory Committee Meeting

AGENCY: Office of the Secretary of Defense, Reserve Forces Policy Board, DoD.

ACTION: Notice of federal advisory committee meeting.

SUMMARY: The Department of Defense is publishing this notice to announce that the following Federal Advisory Committee meeting of the Reserve Forces Policy Board (RFPB) will take place.

DATES: Wednesday, September 10, 2014 from 8:25 a.m. to 4:15 p.m.

ADDRESSES: The address for the meeting is the Army Navy Country Club, 1700 Army Navy Drive, Arlington, VA 22202.

FOR FURTHER INFORMATION CONTACT: Mr. Alex Sabol, Designated Federal Officer, (703) 681-0577 (Voice), (703) 681-0002 (Facsimile), Email—Alexander.J.Sabol.Civ@Mail.Mil. Mailing address is Reserve Forces Policy Board, 5113 Leesburg Pike, Suite 601, Falls Church, VA 22041. Web site: http://rfpb.defense.gov/. The most up-to-date changes to the meeting can be found on the RFPB's Web site.

SUPPLEMENTARY INFORMATION: This meeting notice is being published under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review and evaluate information related to strategies, policies, and practices designed to improve and enhance the capabilities, efficiency, and effectiveness of the Reserve Components. Additionally, the Board will review its work from the past year and determine what matters to include in the annual report required by law to be transmitted to the President and the Congress by the Secretary of Defense.

Agenda: The RFPB will hold a meeting from 8:25 a.m. until 4:15 p.m. The meeting will be open to the public and will consist of remarks to the RFPB from invited speakers that include the RFPB Fellows Society to discuss their views regarding strategies, policies and practices affecting the Reserve Components; Commander, U.S. Cyber Command to discuss the increased emphasis placed on cyber security and logical mission fit for Reserve Component members; and the Chief, National Guard Bureau to discuss the National Guard's challenges and opportunities with future military strategy, resources and structure of America's Armed Forces. There will also be two panels: A “Reserve Component Chief's” Panel with participants that include the Chief, Navy Reserve; Chief, Army Reserve; Commander, Marine Forces Reserve; Acting Director, Army National Guard; Chief, Air Force Reserve; Director, Air National Guard; and Acting Director, Coast Guard Reserve to discuss top challenges and opportunities for each of the Reserve Components and the implications of diminishing resources future strategies for Reserve Component use and the future Reserve Component budgets: And a “Think Tank” Panel with participants from the Center for Strategic and Budgetary Assessments, the American Enterprise Institute Marilyn Ware Center for Security Studies, and the Center for a New American Security to exchange views on rising defense costs; diminishing resources; and the implications for Active-Reserve Component force structure, readiness, and relations. Additionally, the three RFPB subcommittee chairs will provide updates on the work of their respective subcommittee. The Enhancing DoD's Role in the Homeland Subcommittee plans to update on subcommittee issues concerning Defense Support of Civil Authorities and FEMA requirements and discuss Homeland issues under consideration for further research and analysis as possible RFPB matters of interest. The Supporting & Sustaining Reserve Component Personnel Subcommittee plans to provide an overview of available programs that provide confidential assistance and support to Service members and their families to manage stress, and build resilience. The subcommittee will also update the progress on the Survivor Benefits Program and Duty Status recommendations to the Secretary of Defense. The Ensuring a Ready, Capable, Available and Sustainable Operational Reserve Subcommittee plans to provide updates on previous discussion on the examination of Reserve Components ancillary training issues, medical readiness, and enlisted and junior officer perspectives as revealed by Defense Manpower Data Center's Status of Forces Survey of the Reserve Components data.

Meeting Accessibility: Pursuant to 5 U.S.C. 552b, as amended and 41 CFR 102-3.140 through 102-3.165, and subject to the availability of space, the meeting is open to the public from 8:25 a.m. to 4:15 p.m. Seating is based on a first-come, first-served basis. All members of the public who wish to attend the public meeting must contact Mr. Alex Sabol, the Designated Federal Officer, not later than 12 p.m. on Thursday, September 4, 2014, as listed in the FOR FURTHER INFORMATION CONTACT.

Written Statements: Pursuant to 41 CFR 102-3.140 and section 10(a)(3) of the FACA, interested persons may submit written statements to the RFPB at any time about its approved agenda or at any time on the Board's mission. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the RFPB's Web site.

Dated: August 14, 2014.
Aaron Siegel,
Alternate OSD Federal Register Liaison Officer, Department of Defense.

[FR Doc. 2014-19608 Filed 8-18-14; 8:45 am]

BILLING CODE 5001-06-P